DEPARTMENT OF DEFENSE

Department of the Army, Corps of Engineers

[Permit No. SWG-2025-00112 and Section 408 Request ID No. 408-SWG-2025-0031.]

Notice of Final Federal Agency Action on the Authorization for the Port of Corpus Christi Authority Harbor Island Desalination Project

AGENCY: Department of the Army, U.S. Army Corps of Engineers, DoD.

ACTION: Notice of limitation on claims for judicial review of actions by the U.S. Army Corps of Engineers (USACE).

SUMMARY: Pursuant to 42 U.S.C. 4370m-6(a)(1)(A), publication of this notice in the Federal Register initiates a 2-year period for any claim seeking judicial review of the USACE final agency action. USACE announces final agency action on the USACE authorization for the proposed construction of the Port of Corpus Christi Authority Harbor Island Desalination Project (HIDP) located in and affecting the existing Corpus Christi Ship Channel (CCSC), Aransas Channel, Lydia Ann Channel, and Gulf of America (Gulf). USACE has issued a permit authorizing the construction of the HIDP under sections 10 and 14 of the Rivers and Harbors Act of 1899 (RHA) and section 404 of the Clean Water Act (CWA). The HIDP Project is a “covered project” under Title 41 of the Fixing America's Surface Transportation Act.

DATES: Claims for judicial review must be filed within 2 years of publication. After that date, such claims are barred by statute. If the Federal law that allows for judicial review of the USACE authorization specifies a shorter time period for filing such a claim, then that shorter time period will apply.

FOR FURTHER INFORMATION CONTACT: Kevin Mannie, Regulatory Project Manager, Regulatory Division, USACE, Galveston District, 2000 Fort Point Road, Galveston, Texas 77550, (409)-766-3016, or CESWG-2025-00112@usace.army.mil.

SUPPLEMENTARY INFORMATION: Notice is hereby given that USACE has taken final agency action on its authorization for the proposed HIDP Project by issuing a permit authorizing construction of the Project under section 10 and 14 of the RHA and section 404 of the CWA.

The HIDP project proposes to excavate approximately 1,000 cubic yards (CY) of unvegetated water bottom, and discharge approximately 15,800 CY of rock/stone, and install one (1) seawater intake and two (2) outfall diffuser structures associated with the construction of a 100-million gallon per day (MGD) seawater desalination facility on Harbor Island near Port Aransas, Nueces County, Texas. The intake structure, which will impact approximately 11,300 square feet (SF) of unvegetated Gulf of America (Gulf) water bottom, will be located 1.3 miles offshore southeast of San Jose Island in the Gulf at a depth of approximately minus (-) 35 feet mean lower low water (MLLW). The intake structure will connect to Harbor Island and be installed via a tunnel boring machine (TBM) or similar technology. A Gulf high-rate outfall diffuser structure, impacting approximately 55,000 SF, will be located approximately 1.8 miles offshore of San Jose Island and 0.5 miles further southeast from the intake. The Gulf outfall diffuser will connect to Harbor Island via a 14-foot-outer-diameter discharge pipe installed via TBM or similar technology. The Gulf intake and outfall pipe route and alignment will follow the alignment of the authorized “Bluewater Texas Terminal” project. A second approximate 100-foot-long high-rate outfall diffuser structure will be located adjacent and parallel to the Corpus Christi Ship Channel (CCSC) southeast of Harbor Island at a depth of approximately (-) 64 feet MLLW. Muck soils removed during tunneling will be maintained onsite in uplands during construction and dewatered similarly to dredge material, with a dewatering outfall structure into Redfish Bay adjacent to Aransas Channel. Once sufficient dewatering has occurred the material will be used onsite as upland grading material. The facility will include marine life protection screens and a return channel.

The finished water pipelines will include two parallel pipes of 48—52” diameter installed by upland open trenching and micro tunneling and/or horizontal directional drilling (HDD) below marine wetlands, open water, and sand/mud flats. The finished water pipeline will connect to existing onsite Aransas Pass, Texas, water distribution infrastructure.

The USACE's decision to issue a permit, and the laws under which the action was taken, are described in the Department of the Army Environmental Assessment and Statement of Findings for Standard Individual Permit Application combined decision memorandum for record (MFR) for SWG-2025-00112, dated September 8, 2025. Copies of the MFR, permit, and other documents can be requested via the Freedom of Information Act (FOIA) described on the USACE website at https://www.swg.usace.army.mil/Business-With-Us/Office-of-Counsel/Freedom-of-Information-Act/.

This notice applies to all Federal agency decisions that are final as of the issuance date of this notice and all laws under which such actions were taken, including but not limited to:

1. National Environmental Policy Act (NEPA) 42 U.S.C. 4321-4351

2. Section 10 of the Rivers and Harbors Act 33 U.S.C. 403

3. Section 404 of the Clean Water Act 33 U.S.C. 1344

4. Section 14 of the Rivers and Harbors Act 33 U.S.C. 408

5. Clean Air Act 42 U.S.C. 7401-7671

6. Endangered Species Act of 1973 16 U.S.C. 1531-1544

7. Fish and Wildlife Coordination Act 16 U.S.C. 661-667

8. Magnuson-Stevens Fishery Conservation and Management Act Public Law 94-265

9. Coastal Zone Management Act 16 U.S.C. 1451 et seq

10. Migratory Bird Treaty Act 16 U.S.C. 703-712

11. Section 106 of the National Historic Preservation Act of 1966 as amended 54 U.S.C. 306108

12. Archeological Resources Protection Act of 1977 54 U.S.C. 312501-312508

13. Section 401 of the Clean Water Act 33 U.S.C. 1341

14. Executive Order 11990 Protection of Wetlands

15. E.O. 11988 Floodplain Management

16. E.O. 12898, Federal Actions to Address Environmental Justice

17. EP 1100-2-1 Procedures to Evaluate Sea Level Change: Impacts, Responses, and Adaptation

George H. Walter,
Brigadier General, Commanding, U.S. Army Corps of Engineers.

[FR Doc. 2025-18619 Filed 9-24-25; 8:45 am]

BILLING CODE 3720-58-P